DEPARTMENT OF TRANSPORTATION

Federal Aviation Administration

Notice of Intent To Prepare an Environmental Impact Statement and Hold Scoping Meeting; Gnoss Field, Novato, Marin County, CA

AGENCY: Federal Aviation Administration, DOT.

ACTION: Notice of intent and notice of scoping meeting.

SUMMARY: The Federal Aviation Administration (FAA) is issuing this notice to advise the public that an Environmental Impact Statement (EIS) will be prepared and considered for the proposed extension of a runway, corresponding taxiway extension, associated levee construction and realignment of drainage, and reprogramming of the GPS Instrument Approach for the extended runway. To ensure that all significant issues related to the proposed action are identified, a public scoping meeting will be held.

FOR FURTHER INFORMATION CONTACT: Barry Franklin, Environmental Protection Specialist, San Francisco Airports District Office, Federal Aviation Administration, Western-Pacific Region, 831 Mitten Road, Room 210, Burlingame, California 94010-1303, Telephone: (650) 876-2778, extension 614.

SUPPLEMENTARY INFORMATION: The Lead Agency for the preparation of the EIS is the FAA. The FAA will prepare an EIS to evaluate the following development alternatives and the No Action Alternative as described below. The EIS will determine all environmental impacts, such as and not limited to, noise impacts, impacts on air and water quality, wetlands, ecological resources, floodplains, historic resources, hazardous wastes, socioeconomics, and economic factors.

Alternative One—Sponsor's Proposed Project

Runway 13/31 would be extended 1,100 feet to the north from 3,300 linear feet to 4,400 linear feet. This length would maintain the airport's ability to accommodate current and projected airport operations.

To compliment the runway extension, the corresponding taxiway for Runway 13/31 would be extended to the north from 3,300 linear feet to 4,400 linear feet. There would be associated levee construction and major realignment of drainage in order to protect the runway extension against flooding. The GPS instrument approach for Runway 13/31 would be reprogrammed to accommodate the extension of the runway.

Alternative Two

Runway 13/31 would be extended 1,100 feet to the south from 3,300 linear feet to 4,400 linear feet. This length would maintain the airport's ability to accommodate current and projected airport operations.

To compliment the runway extension, the corresponding taxiway for Runway 13/31 would be extended to the south from 3,300 linear feet to 4,400 linear feet. There would be associated levee construction and major realignment of drainage in order to protect the runway extension against flooding. The GPS instrument approach for Runway 13/31 would be reprogrammed to accommodate the extension of the runway.

Alternative Three

Runway 13/31 would be extended to the north and to the south to bring the runway length from 3,300 linear feet to 4,400 linear feet. This length would maintain the airport's ability to accommodate current and projected airport operations.

To compliment the runway extension, the corresponding taxiway for Runway 13/31 would be extended to the north and to the south to bring the total taxiway length from 3,300 linear feet to 4,400 linear feet. There would be associated levee construction and major realignment of drainage in order to protect the runway extension against flooding. The GPS instrument approach for Runway 13/31 would be reprogrammed to accommodate the extension of the runway.

Alternative Four—No Action Alternative

Under this alternative the existing airport would be retained with no improvements. The county would not change the infrastructure of the existing airport and no extensions or associated improvements would be constructed.

In addition to this Notice of Intent, the County of Marin, California is issuing a Notice of Preparation (NOP) of a Draft Environmental Impact Report (EIR), per California Environmental Quality Act (CEQA) of 1970 Guidelines. The FAA's EIS and the County's EIR will be produced concurrently.

Public Scoping Meeting: To ensure that the full range of issues related to the proposed project are addressed and that all significant issues are identified, comments and suggestions are invited from all interested parties. A public scoping meeting will be conducted to identify any significant issues associated with the proposed project.

One (1) Public Scoping meeting for the general public will be held on August 14, 2008, at the Marin Humane Society Auditorium, 171 Bel Marin Keys Blvd, Novato, California. The meeting will be held from 6:30 p.m. to 8:30 p.m. Pacific Daylight Time (PDT). The FAA and the County will be accepting comments on the scope of both the EIS and EIR at that scoping meeting.

Written comments concerning the scope of the EIS and EIR may be mailed to the individual named above under the heading FOR FURTHER INFORMATION CONTACT above, and must be received no later than 5 p.m. PDT, August 29, 2008.

Questions may be directed to the individual named above under the heading, FOR FURTHER INFORMATION CONTACT.

Issued in Hawthorne, California on June 27, 2008.
Mark A. McClardy,
Manager, Airports Division, Western—Pacific Region, AWP-600.

[FR Doc. E8-15209 Filed 7-10-08; 8:45 am]

BILLING CODE 4910-13-P